DEPARTMENT OF JUSTICE

Antitrust Division

Notice Pursuant to the National Cooperative Research and Production Act of 1993—Plastic Aerosol Research Group, L.L.C.

Notice is hereby given that, on August 29, 2011, pursuant to Section 6(a) of the National Cooperative Research and Production Act of 1993, 15 U.S.C. 4301 et seq. (“the Act”), Plastic Aerosol Research Group, L.L.C. (“PARG”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Aerofil Technology Inc, Sullivan, MO; Aptar Beauty & Home, Cary, IL; Berry Plastics Corporation, Evansville, IN; Clorox Service Company, Ocala, FL; Diversified CPC International, Inc., Channahon, IL; Formulated Solutions, LLC, Largo, FL; Graham Packaging Company, L.P., York, PA; I-K-I Manufacturing Co., Inc., Edgerton, WI; KIK Custom Products, Danville, IL; Plastic Technologies, Inc., Holland, OH; Precision Valve Corporation, Yonkers, NY; The Procter & Gamble Company, Cincinnati, OH; Reckitt Benckiser, LLC, Parsippany, NJ; S.C. Johnson & Son, Inc., Racine, WI; and Summit Packaging Systems, Inc., Manchester, NY.

The general area of PARG's planned activity is to generate tests, studies, assays, analyses, compilations, and other information regarding the transportation, manufacturing, and storage of plastic aerosol containers used to store specialty chemical household, personal care, and food and beverage products. PARG may work with a standard setting organization that may develop a document to meet standardization needs for such containers. Any standard developed would be informational and advisory only, and its use would be entirely voluntary.

Patricia A. Brink,
Director of Civil Enforcement, Antitrust Division.

[FR Doc. 2011-24875 Filed 9-28-11; 8:45 am]

BILLING CODE 4410-11-M